DEPARTMENT OF ENERGY

Federal Energy Regulatory Commission

Combined Notice of Filings

December 1, 2008.

Take notice that the Commission has received the following Natural Gas Pipeline Rate and Refund Report filings:

Docket Numbers: RP96-272-085.

Applicants: Northern Natural Gas Company.

Description: Northern Natural Gas Company submits Third Revised Original Sheet 66B.01 et al as part of its FERC Gas Tariff, Fifth Revised Volume 1, to be effective 12/1/08.

Filed Date: 11/26/2008.

Accession Number: 20081128-0101.

Comment Date: 5 p.m. Eastern Time on Monday, December 8, 2008.

Docket Numbers: RP96-312-185.

Applicants: Tennessee Gas Pipeline Company.

Description: Tennessee Gas Pipeline Company submits revised Exhibit A to the Gas Transportation Agreement pursuant to Rate Schedule FT-A, and a revised Negotiated Rate Letter Agreement dated 11/19/08 with Tennessee Valley Authority.

Filed Date: 11/25/2008.

Accession Number: 20081201-0073.

Comment Date: 5 p.m. Eastern Time on Monday, December 8, 2008.

Docket Numbers: RP97-28-022.

Applicants: Wyoming Interstate Company, Ltd.

Description: Wyoming Interstate Company, Ltd submits Eleventh Revised Sheet 1 et al to Second Revised Volume 2, to be effective 12/29/08.

Filed Date: 11/26/2008.

Accession Number: 20081128-0102.

Comment Date: 5 p.m. Eastern Time on Monday, December 8, 2008.

Docket Numbers: RP99-176-175.

Applicants: Natural Gas Pipeline Company of America LLC.

Description: Natural Gas Pipeline Company of America, LLC submits the Transportation Rate Schedule FTS Agreement with a negotiated rate exhibit with CenterPoint Energy Services, Inc etc.

Filed Date: 11/25/2008.

Accession Number: 20081201-0072.

Comment Date: 5 p.m. Eastern Time on Monday, December 8, 2008.

Docket Numbers: RP01-377-014.

Applicants: Northern Border Pipeline Company.

Description: Northern Border Pipeline Company submits Twentieth Revised Sheet 99A as part of its FERC Gas Tariff, First Revised Volume 1, to be effective 1/1/09.

Filed Date: 11/26/2008.

Accession Number: 20081128-0103.

Comment Date: 5 p.m. Eastern Time on Monday, December 8, 2008.

Docket Numbers: RP03-36-038.

Applicants: Dauphin Island Gathering Partners.

Description: Dauphin Island Gathering Partners submits Forty-First Revised Sheet 9 and Sixth Revised Sheet 10A as part of its FERC Gas Tariff, First Revised Volume 1, to be effective 12/1/08.

Filed Date: 11/26/2008.

Accession Number: 20081128-0104.

Comment Date: 5 p.m. Eastern Time on Monday, December 8, 2008.

Docket Numbers: RP08-25-001.

Applicants: Southern LNG, Inc.

Description: Southern LNG, Inc submits negotiated rate agreement, Exhibit D to LNG-1 Service Agreement SLNG9 dated 8/28/07 with BG LNG Services, LLC, to be effective 1/1/09.

Filed Date: 11/24/2008.

Accession Number: 20081201-0075.

Comment Date: 5 p.m. Eastern Time on Monday, December 8, 2008.

Docket Numbers: RP09-66-001.

Applicants: Texas Eastern Transmission LP.

Description: Texas Eastern Transmission, LP submits Sub Second Revised Sheet 982 to FERC Gas Tariff, Seventh Revised Volume 1, to be effective 12/12/08.

Filed Date: 11/25/2008.

Accession Number: 20081201-0074.

Comment Date: 5 p.m. Eastern Time on Monday, December 8, 2008.

Docket Numbers: RP09-104-000.

Applicants: Questar Pipeline Company.

Description: Questar Pipeline Company submits Second Revised Sheet 1 et al to FERC Gas Tariff, Original Volume 3.

Filed Date: 11/24/2008.

Accession Number: 20081126-0103.

Comment Date: 5 p.m. Eastern Time on Monday, December 8, 2008.

Docket Numbers: RP09-105-000.

Applicants: Gas Transmission Northwest Corporation.

Description: Gas Transmission Northwest Corporation submits its annual fuel charge adjustment in compliance with Paragraph 37 of General Terms & Conditions of its FERC Gas Tariff, Third Revised Volume 1-A.

Filed Date: 11/24/2008.

Accession Number: 20081126-0104.

Comment Date: 5 p.m. Eastern Time on Monday, December 8, 2008.

Docket Numbers: RP09-106-000.

Applicants: Southern Natural Gas Company.

Description: Southern Natural Gas Company submits Sheet 1—8 to FERC Electric Rate Schedule 1 re Derivation of Surcharge Adjustment etc.

Filed Date: 11/24/2008

Accession Number: 20081126-0102.

Comment Date: 5 p.m. Eastern Time on Monday, December 8, 2008.

Docket Numbers: RP09-107-000.

Applicants: Wyoming Interstate Company, Ltd.

Description: Wyoming Interstate Company, Ltd submits Third Revised Sheet 77 to FERC Gas Tariff, Second Revised Volume 2.

Filed Date: 11/24/2008.

Accession Number: 20081126-0101.

Comment Date: 5 p.m. Eastern Time on Monday, December 8, 2008.

Docket Numbers: RP09-108-000.

Applicants: Dominion South Pipeline Company, LP.

Description: Dominion South Pipeline Company, LP's Report in Compliance with Ordering Paragraph D.

Filed Date: 11/24/2008.

Accession Number: 20081124-5171.

Comment Date: 5 p.m. Eastern Time on Monday, December 8, 2008.

Docket Numbers: RP09-109-000.

Applicants: Iroquois Gas Transmission System, L.P.

Description: Iroquois Gas Transmission System, LP submits Eighth Revised Sheet 41 et al to FERC Gas Tariff, First Revised Volume 1, to be effective 11/26/08.

Filed Date: 11/25/2008.

Accession Number: 20081201-0071.

Comment Date: 5 p.m. Eastern Time on Monday, December 8, 2008.

Docket Numbers: RP09-110-000.

Applicants: Northern Natural Gas Company.

Description: Northern Natural Gas Company submits the 11 Revised Sheet 286 et al to FERC Gas Tariff, Fifth Revised Volume 1, in compliance with Order 712.

Filed Date: 11/25/2008.

Accession Number: 20081201-0070.

Comment Date: 5 p.m. Eastern Time on Monday, December 8, 2008.

Docket Numbers: RP09-111-000.

Applicants: Vector Pipeline L.P.

Description: Vector Pipeline, LP submits Third Revised Sheet 10 et al to FERC Gas Tariff, Original Volume 1, to be effective 1/1/09.

Filed Date: 11/25/2008.

Accession Number: 20081201-0069.

Comment Date: 5 p.m. Eastern Time on Monday, December 8, 2008.

Docket Numbers: RP09-112-000.

Applicants: Chandeleur Pipe Line Company.

Description: Chandeleur Pipe Line Company submits documentation to support the continuation of its Fuel and Line Loss Allowance of 0.0% to FERC Gas Tariff, Second Revised Volume 1, to be effective 1/1/09.

Filed Date: 11/25/2008.

Accession Number: 20081201-0068.

Comment Date: 5 p.m. Eastern Time on Monday, December 8, 2008.

Docket Numbers: RP09-113-000.

Applicants: Great Lakes Gas Transmission Limited Partnership.

Description: Great Lakes Gas Transmission Limited Partnership submits Eighth Revised Sheet 8A et al to FERC Gas Tariff, Second Revised Volume 1, to be effective 1/1/09.

Filed Date: 11/25/2008.

Accession Number: 20081201-0067.

Comment Date: 5 p.m. Eastern Time on Monday, December 8, 2008.

Docket Numbers: RP09-114-000.

Applicants: Transcontinental Gas Pipe Line Corporation.

Description: Transcontinental Gas Pipe Line Corporation submits Fourth Revised Sheet No. 4 et al to FERC Gas Tariff, Third Revised Volume No. 1, to be effective 12/27/08.

Filed Date: 11/26/2008.

Accession Number: 20081128-0116.

Comment Date: 5 p.m. Eastern Time on Monday, December 8, 2008.

Docket Numbers: RP09-115-000.

Applicants: Southern Star Central Gas Pipeline, Inc.

Description: Southern Star Central Gas Pipeline, Inc submits Ninth Revised Sheet 12 to FERC Gas Tariff, Original Volume 1.

Filed Date: 11/26/2008.

Accession Number: 20081128-0115.

Comment Date: 5 p.m. Eastern Time on Monday, December 8, 2008.

Docket Numbers: RP09-116-000.

Applicants: Tennessee Gas Pipeline Company.

Description: Tennessee Gas Pipeline Company submits its cashout report for September 2007 through August 2008.

Filed Date: 11/26/2008.

Accession Number: 20081128-0114.

Comment Date: 5 p.m. Eastern Time on Monday, December 8, 2008.

Docket Numbers: RP09-117-000.

Applicants: El Paso Natural Gas Company.

Description: El Paso Natural Gas Company submits Seventeenth Revised Sheet 29 to its FERC Gas Tariff, Second Revised Volume 1A.

Filed Date: 11/26/2008.

Accession Number: 20081128-0113.

Comment Date: 5 p.m. Eastern Time on Monday, December 8, 2008.

Docket Numbers: RP09-118-000.

Applicants: Mojave Pipeline Company.

Description: Mojave Pipeline Company submits the Twenty-Fifth Revised Sheet 11 to its FERC Gas Tariff, Second Revised Volume 1A.

Filed Date: 11/26/2008.

Accession Number: 20081128-0112.

Comment Date: 5 p.m. Eastern Time on Monday, December 8, 2008.

Docket Numbers: RP09-119-000.

Applicants: El Paso Natural Gas Company.

Description: El Paso Natural Gas Company submits Seventh Revised Sheet 374 et al to FERC Gas Tariff, Second Revised Volume 1A.

Filed Date: 11/26/2008.

Accession Number: 20081128-0111.

Comment Date: 5 p.m. Eastern Time on Monday, December 8, 2008.

Docket Numbers: RP09-120-000.

Applicants: Colorado Interstate Gas Company.

Description: Colorado Interstate Gas Company submits a firm Rate Schedule TF-HP Transportation Service Agreement with Shell Energy North America, LP.

Filed Date: 11/26/2008.

Accession Number: 20081128-0110.

Comment Date: 5 p.m. Eastern Time on Monday, December 8, 2008.

Docket Numbers: RP09-121-000.

Applicants: Colorado Interstate Gas Company.

Description: Colorado Interstate Gas Company reports that the workpapers submitted which are intended to validate and to continue the existing reimbursement percentage for Lost, Unaccounted-For and Other and Fuel Gas.

Filed Date: 11/26/2008.

Accession Number: 20081128-0117.

Comment Date: 5 p.m. Eastern Time on Monday, December 8, 2008.

Docket Numbers: RP09-122-000.

Applicants: Questar Pipeline Company.

Description: Questar Pipeline Company submits Title Page to FERC Gas Tariff, First Revised Volume No. 1, to be effective 12/29/08.

Filed Date: 11/26/2008.

Accession Number: 20081128-0118.

Comment Date: 5 p.m. Eastern Time on Monday, December 8, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-29338 Filed 12-10-08; 8:45 am]

BILLING CODE 6717-01-P